DEPARTMENT OF HEALTH AND HUMAN SERVICES

National Institutes of Health

Notice of Correction for Notice of Intent To Prepare an Environmental Impact Statement and Notice of Scoping Meeting

The National Institutes of Health (NIH) is correcting a notice previously published in the Federal Register on August 28, 2014 (79 FR 51344) and titled “Notice of Intent to Prepare an Environmental Impact Statement and Notice of Scoping Meeting.” The notice announced that the National Institutes of Health (NIH) was preparing an environmental impact statement for the Assure/Expand Chilled Water Capacity project located on the National Institutes of Health, Bethesda Campus, Bethesda, Maryland.

NIH is amending the date of the meeting from September 24, 2014 to October 2, 2014. For further information about the meeting, please contact Mark Radtke at 301-451-6467.

Dated: September 3, 2014.
Daniel G. Wheeland,
Director, Office of Research Facilities Development and Operations, National Institutes of Health.

[FR Doc. 2014-21540 Filed 9-9-14; 8:45 am]

BILLING CODE 4140-01-P